DEPARTMENT OF THE INTERIOR

Bureau of Land Management

[WY-060-1320-EL, WYW146744]

Federal Coal Lease Application

AGENCY: Bureau of Land Management, Interior.

ACTION: Notice of availability of a Final Environmental Impact Statement on the North Jacobs Ranch Federal Coal Lease Application in the Decertified Powder River Federal Coal Production Region, Wyoming.

SUMMARY: Pursuant to the National Environmental Policy Act (NEPA) and implementing regulations and other applicable statutes, the Bureau of Land Management (BLM) announces the availability of a Final Environmental Impact Statement (FEIS) for the North Jacobs Ranch Coal Lease Application, BLM serial number WYW146744, in the Wyoming Powder River Basin. The FEIS analyzes the impacts of issuing a Federal coal lease for the proposed North Jacobs Ranch Federal coal tract. The North Jacobs Ranch tract is being considered for sale as a result of a coal lease application received from Jacobs Ranch Coal Company (JRCC) on October 2, 1998. JRCC is a subsidiary of Kennecott Energy Company. The tract as applied for includes about 4,821.19 acres containing approximately 533 million tons of in-place Federal coal reserves in Campbell County, Wyoming.

DATES: Written comments on the FEIS will be accepted for 30 days following the date that the Environmental Protection Agency (EPA) publishes their notice of availability of the FEIS in the Federal Register. The BLM will notify all parties on this project's mailing list of the dates when comments will be accepted.

ADDRESSES: Please address questions, comments or requests for copies of the FEIS to the Casper Field Office, Bureau of Land Management, Attn: Nancy Doelger, 2987 Prospector Drive, Casper, Wyoming 8260; or you may e-mail them to the attention of Nancy Doelger at casper_wymail@blm.gov; or fax them to (307) 261-7587.

FOR FURTHER INFORMATION CONTACT: Nancy Doelger or Mike Karbs at the above address, or phone: 307-261-7600.

SUPPLEMENTARY INFORMATION: The application for the North Jacobs Ranch tract was filed as a maintenance tract coal lease-by-application (LBA) under the provisions of 43 CFR 3425.1

On October 2, 1998, JRCC filed coal lease application WYW146744 for the North Jacobs Ranch Federal coal tract with the BLM for the following lands:

Sixth Principal Meridian

T. 44N., R. 70 W.,

Sec 26, lots 9 and 10;

Sec 27, lots 1 to 16, inclusive;

Sec 28, lots 1 to 16, inclusive;

Sec 29, lots 1 to 16, inclusive;

Sec 30, lots 5 to 20, inclusive;

Sec 31, lots 5 to 20, inclusive;

Sec 32, lots 1 to 16, inclusive;

Sec 33, lots 4, 5, 12, and 13.

Sixth Principal Meridian

T. 44 N., R. 71 W.,

sec 25, lots 1 to 16, inclusive.

Total surface area applied for: 4,821.19 acres.

The Powder River Regional Coal Team (RCT) reviewed this competitive lease application at public meetings held on February 23, 1999, in Billings, Montana; October 27, 1999, in Gillette, Wyoming; and October 25, 2000, in Cheyenne, Wyoming. At the most recent meeting, the RCT recommended that BLM continue to process this LBA.

The Draft Environmental Impact Statement (DEIS) was mailed to the public in December, 2000. The EPA and the BLM each published a Notice of Availability in the Federal Register on December 15, 2000. A formal public hearing on this application was held, pursuant to 43 Code of Federal Regulations (CFR) 3425.4, at 7:00 P.M. MDT, on January 17, 2000 at the Clarion Western Plaza Motel, 2009 S. Douglas Highway, Gillette, Wyoming. The purpose of the hearing was to solicit public comments on the DEIS, the fair market value, the maximum economic recovery, and the proposed competitive sale of the coal included in the proposed North Jacobs Ranch Federal coal tract. The 60-day comment period on the DEIS ended on February 13, 2001.

The Jacobs Ranch Mine, which is adjacent to the lease application area, has an approved mining and reclamation plan from the Land Quality Division of the Wyoming Department of Environmental Quality and an approved air quality permit from the Air Quality Division of the Wyoming Department of Environmental Quality to mine up to 38 million tons of coal per year through 2001, and 50 million tons of coal per year to be mined in 2002 through 2004. According to the application filed for the North Jacobs Ranch tract, the maintenance tract would be mined to extend the life of the existing mine. JRCC estimates that, under the current mine plan, the existing recoverable reserves at the Jacobs Ranch Mine will be mined out in about 7 years at an average production rate of 24.5 million tons per year. The Black Thunder Mine is also contiguous to the lease application area.

JRCC previously acquired a maintenance coal lease (serial number WYW117924, issued effective 10/1/92) containing approximately 1,709 acres adjacent to the Jacobs Ranch Mine using the LBA process.

The FEIS analyzes four alternatives. The Proposed Action is to lease the North Jacobs Ranch tract as applied for to the successful bidder at a competitive sealed bid sale. Alternative 1, is the No Action Alternative, which assumes that the application for the North Jacobs Ranch tract is rejected. Alternative 3, the BLM's preferred alternative, evaluates issuing a lease for the tract as modified by the BLM to avoid a potential bypass situation. Under Alternative 3, approximately 160 acres would be added to the east of the tract as applied for. Alternative 4 evaluates issuing a lease for a smaller tract that would be modified to reduce multiple mineral development conflicts with existing oil and gas development.

The Office of Surface Mining Reclamation and Enforcement is a cooperating agency in the preparation of this EIS because it is the Federal agency that would recommend approval or disapproval of the mining plan for the North Jacobs Ranch LBA tract to the Secretary of the Interior, if a lease is issued for the tract.

Fourteen written comments were received during the comment period on the Draft EIS, and four oral comments were recorded at the public hearing. The issues that were identified in the comment letters and at the hearing included potential conflicts with existing conventional oil and gas and coalbed methane development; potential cumulative impacts of increasing mineral development in the Powder River Basin; validity and currency of resource data; public access; potential impacts to threatened and endangered species and other species of concern; potential cumulative air quality impacts; potential impacts of nitrogen oxide emissions resulting from blasting of coal and overburden; and cumulative impacts of reasonably foreseeable actions such as the construction and operation of the DM&E railroad in the cumulative analysis.

Comments, including names and street addresses of respondents, will be available for public review at the Bureau of Land Management, Casper Field Office, 2987 Prospector Drive, Casper, Wyoming, during regular business hours (8 a.m. to 4:30 p.m.), Monday through Friday, except holidays, and may be published as part of the final EIS. Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

Dated: July 3, 2001.
Alan R. Pierson,
State Director.

[FR Doc. 01-19548 Filed 8-3-01; 8:45 am]

BILLING CODE 4310-22-P